DEPARTMENT OF COMMERCE

National Oceanic and Atmospheric Administration

Hydrographic Services Review Panel Meeting

AGENCY: National Ocean Service, National Oceanic and Atmospheric Administration (NOAA), Department of Commerce.

ACTION: Notice of open meeting.

SUMMARY: The Hydrographic Services Review Panel (HSRP) is a Federal Advisory Committee established to advise the Under Secretary of Commerce for Oceans and Atmosphere on matters related to the responsibilities and authorities set forth in section 303 of the Hydrographic Services Improvement Act of 1998, its amendments, and such other appropriate matters that the Under Secretary refers to the Panel for review and advice.

Date and Time: The public meeting will be held on October 26-27, 2011. October 26th from 8:30 a.m. to 5:30 p.m.; October 27th from 8:30 a.m. to 4:30 p.m.

Location: Half Moone Cruise and Celebration Center, One Waterside Drive, Norfolk, Virginia 23510, tel: (757) 664-1074. Refer to the HSRP Web site listed below for the most current meeting agenda. Times and agenda topics are subject to change.

FOR FURTHER INFORMATION CONTACT: Kathy Watson, HSRP Program Coordinator, National Ocean Service (NOS), Office of Coast Survey, NOAA (N/CS), 1315 East West Highway, Silver Spring, Maryland 20910; Telephone: 301-713-2770 ext. 158; Fax: 301-713-4019; E-mail: Hydroservices.panel@noaa.gov or visit the NOAA HSRP Web site at http://nauticalcharts.noaa.gov/ocs/hsrp/hsrp.htm.

SUPPLEMENTARY INFORMATION: The meeting will be open to the public and public comment periods (on-site) will be scheduled at various times throughout the meeting. These comment periods will be included in the final agenda published before verbal presentation will be limited to a total time of five (5) minutes. Comments will be recorded. Written comments should be submitted to Hydroservices.panel@noaa.gov by October 21, 2011. Written comments received after Oct 21, 2011, will be distributed to the HSRP, but may not be reviewed until the meeting. Approximately 30 seats will be available for the public, on a first-come, first-served basis.

Special Accommodations: HSRP public meetings are physically accessible to people with disabilities. Requests for sign language interpretation or other auxiliary aids should be directed to Kathy Watson, HSRP Program Coordinator, National Ocean Service (NOS), Office of Coast Survey, NOAA (N/CS), 1315 East West Highway, Silver Spring, Maryland 20910; Telephone: 301-713-2770 ext. 158, or E-mail: Kathy.Watson@noaa.gov by October 17, 2011.

Matters to be Considered: Presentations from local and regional key stakeholders to the HSRP Panel will address issues such as: (1) Expanded requirements for navigation data in Virginia; (2) the Port Access Route Study and shipping routes for the Port of Virginia; (3) offshore wind energy development, and impacts to marine transportation; (4) planning for sea level rise; and (5) the roles of the Federal government, the ocean shipping industry, and other traditional maritime users in coastal and marine spatial planning. The HSRP will also engage in a strategic planning session to develop and produce an outline of priority issues for the Panel to focus on over the next two to three years.

Dated: September 23, 2011.
John E. Lowell, Jr.,
Director, Office of Coast Survey, National Ocean Service, National Oceanic and Atmospheric Administration.

[FR Doc. 2011-25371 Filed 9-30-11; 8:45 am]

BILLING CODE 3510-JE-P